DEPARTMENT OF HOMELAND SECURITY

Coast Guard

33 CFR Part 117

[Docket No. USCG-2025-0152]

Drawbridge Operation Regulation; Atlantic Intracoastal Waterway, North Myrtle Beach, SC

AGENCY: Coast Guard, Department of Homeland Security (DHS).

ACTION: Notice of temporary deviation from regulations; request for comments.

SUMMARY: The Coast Guard has issued a temporary deviation from the operating schedule that governs the Little River Bridge, across the Atlantic Intracoastal Waterway (AICW), mile 347.3, at North Myrtle Beach, SC. South Carolina Department of Transportation (SCDOT) requested the Coast Guard consider placing the swing bridge on weekday scheduled openings at designated times to assist with vehicle congestion. This deviation will test a change to the drawbridge operation schedule to determine whether a permanent change to the schedule is needed. The Coast Guard is seeking comments from the public regarding these changes.

DATES: This deviation is effective without actual notice from May 13, 2025, through October 31, 2025. For the purposes of enforcement, actual notice will be used from May 5, 2025, until May 13, 2025.

Comments and relate material must reach the Coast Guard on or before June 27, 2025.

ADDRESSES: You may submit comments identified by docket number USCG-2025-0152 using Federal Decision-Making Portal at https://www.regulations.gov.

See the “Public Participation and Request for Comments” portion of the SUPPLEMENTARY INFORMATION section below for instructions on submitting comments.

FOR FURTHER INFORMATION CONTACT: If you have questions on this test deviation, call or email Ms. Jennifer Zercher, Bridge Management Specialist, Seventh Coast Guard District; telephone 571-607-5951, email Jennifer.N.Zercher@uscg.mil.

SUPPLEMENTARY INFORMATION:

I. Background, Purpose and Legal Basis

Little River Bridge across the AICW, mile 347.3, at North Myrtle Beach, SC, is a swing bridge with a 7-foot vertical clearance at mean high water in the closed position. The normal operating schedule for the bridge is set forth in 33 CFR 117.5.

The Coast Guard received a request from SCDOT to consider placing the swing bridge on weekday scheduled openings at designated times to assist with vehicle congestion. The swing bridge currently opens to navigation on demand. This temporary deviation will test a change to the drawbridge operation schedule to determine if the reasonable needs of navigation are maintained and whether a permanent change to the schedule is needed.

Under this temporary deviation, the Little River Bridge shall open on signal; except that from 7 a.m. to 9 a.m. and 4 p.m. to 6 p.m., Monday through Friday, except Federal holidays, the draw will open on the hour and half hour. Public vessels of the United States and tugs with tows, upon proper signal, will be passed through any time. Vessels able to pass without an opening may do so at any time.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0152 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments are posted, or a final rule is published of any posting or updates to the docket.

We review all comments received, but we will only post comments that address the topic of this deviation. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

Dated: May 2, 2025.
Randall D. Overton,
Director, Bridge Administration, Seventh Coast Guard District.

[FR Doc. 2025-08366 Filed 5-12-25; 8:45 am]

BILLING CODE 9110-04-P